DEPARTMENT OF ENERGY

Federal Energy Regulatory Commission

Combined Notice of Filings # 1

April 15, 2010.

Take notice that the Commission received the following electric rate filings:

Docket Numbers: ER03-9-017; ER06-1313-005; ER98-2157-018.

Applicants: Westar Energy, Inc., Kansas Gas and Electric Company.

Description: Westar Energy, Inc et al submits Second Substitute Fourth Revised Sheet No. 1A et al. to FERC Electric Tariff, Third Revised Volume No. 6.

Filed Date: 04/14/2010.

Accession Number: 20100415-0001.

Comment Date: 5 p.m. Eastern Time on Wednesday, May 5, 2010.

Docket Numbers: ER07-758-018.

Applicants: Inland Empire Energy Center, L.L.C.

Description: Addendum to Notice of Non-Material Change in Status of Inland Empire Energy Center, L.L.C.

Filed Date: 04/14/2010.

Accession Number: 20100414-5115.

Comment Date: 5 p.m. Eastern Time on Wednesday, May 5, 2010.

Docket Numbers: ER07-1232-004; ER07-964-003; ER98-1150-012.

Applicants: Tucson Electric Power Company, UniSource Energy Development Company, UNS Electric, Inc.

Description: Notification of Non-Material Change in Status of Tucson Electric Power Company, UNS Electric, Inc., UniSource Energy Development Company.

Filed Date: 04/14/2010.

Accession Number: 20100414-5126.

Comment Date: 5 p.m. Eastern Time on Wednesday, May 5, 2010.

Docket Numbers: ER10-853-001.

Applicants: Dynamic PL, LLC.

Description: Dynamic PL, LLC submits Petition for Acceptance of Initial Tariff, Waivers and Blanket Authorization, together with Rate Schedule 1 etc.

Filed Date: 04/14/2010.

Accession Number: 20100414-0221.

Comment Date: 5 p.m. Eastern Time on Wednesday, May 5, 2010.

Docket Numbers: ER10-1052-000.

Applicants: Public Service Electric and Gas Company.

Description: Public Service Electric and Gas Company submits executed first revised transmission facilities agreement between it and Atlantic City Electric Company, submitting Original Service Agreement 1877 under the FERC Electric tariff of PJM.

Filed Date: 04/14/2010.

Accession Number: 20100414-0222.

Comment Date: 5 p.m. Eastern Time on Wednesday, May 5, 2010.

Docket Numbers: ER10-1053-000.

Applicants: The Connecticut Light and Power Company.

Description: Connecticut Light and Power Company submits Interconnection Agreement between CL&P and Algonquin, designated as Original Service Agreement 1A-NU-15.

Filed Date: 04/14/2010.

Accession Number: 20100414-0223.

Comment Date: 5 p.m. Eastern Time on Wednesday, May 5, 2010.

Docket Numbers: ER10-1054-000.

Applicants: Westar Energy, Inc.

Description: Westar Energy, Inc submits First Revised Sheet 44, a Revised Attachment E-1 to rate Schedule FERC 317, a cost-based agreement for wholesale power sales service from generating assets likely to participate etc.

Filed Date: 04/14/2010.

Accession Number: 20100414-0224.

Comment Date: 5 p.m. Eastern Time on Wednesday, May 5, 2010.

Docket Numbers: ER10-1055-000.

Applicants: PacifiCorp.

Description: PacifiCorp submits an updated Exhibit 2 First Revised Rate Schedule 302, the Amended and Restated Facilities Rental and Wheeling Agreement, etc.

Filed Date: 04/14/2010.

Accession Number: 20100415-0202.

Comment Date: 5 p.m. Eastern Time on Wednesday, May 5, 2010.

Docket Numbers: ER10-1056-000.

Applicants: PacifiCorp.

Description: PacifiCorp submits Fourth Revised Service Agreement 66, a Network Integration Transmission Service Agreement, etc.

Filed Date: 04/14/2010.

Accession Number: 20100415-0201.

Comment Date: 5 p.m. Eastern Time on Wednesday, May 5, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. 2010-9265 Filed 4-21-10; 8:45 am]

BILLING CODE 6717-01-P